DEPARTMENT OF HEALTH AND HUMAN SERVICES

Administration for Children and Families

Proposed Information Collection Activity; Sexual Risk Avoidance Education Performance Analysis Study—Extension (Office of Management and Budget (OMB) #0970-0536)

AGENCY: Office of Planning, Research, and Evaluation (OPRE), Administration for Children and Families (ACF), U.S. Department of Health and Human Services (HHS).

ACTION: Request for public comment.

SUMMARY: OPRE and the Family and Youth Services Bureau (FYSB) request an extension without changes to a currently approved information collection activity as part of Sexual Risk Avoidance Education Performance Analysis Study (SRAE PAS)(OMB Control No. 0970-0536; expiration date October 31, 2022). The goal of the study is to collect, analyze, and report on performance measures data for the SRAE program.

DATES: Comments are due within 60 days of publication. In compliance with the requirements of the Paperwork Reduction Act (PRA) of 1995, ACF is soliciting public comment on the specific aspects of the information collection described above.

ADDRESSES: You can obtain copies of the proposed collection of information and submit comments by emailing opreinfocollection@acf.hhs.gov. Identify all requests by the title of the information collection.

SUPPLEMENTARY INFORMATION:

Description: The purpose of the SRAE program is to educate youth on how to voluntarily refrain from nonmarital sexual activity and prevent other youth risk behaviors. The requested extension will allow ACF to continue to collect the performance measures from SRAE grantees. Data will continue to be used to determine if the SRAE grantees are meeting performance benchmarks related to their program's mission and priorities. The program office will continue to use the data to provide technical assistance to grantees and for its own reporting purposes.

Respondents: Departmental Sexual Risk Avoidance Education (DSRAE), State Sexual Risk Avoidance Education (SSRAE), and Competitive Sexual Risk Avoidance Education (CSRAE) grantees, their sub recipients, and program participants.

Annual Burden Estimates
Instrument | Number of respondents (total over request period) | Number of responses per respondent (total over request period) | Average burden per response (in hours) | Total burden (in hours) | Annual burden (in hours)
(1) Participant Entry Survey
DSRAE participants | 378,390 | 1 | 0.1333 | 50,439 | 16,813
SSRAE participants | 952,899 | 1 | 0.1333 | 127,021 | 42,340
CSRAE participants | 60,408 | 1 | 0.1333 | 8,052 | 2,684
(2) Participant Exit Survey
DSRAE participants | 302,712 | 1 | 0.1667 | 50,462 | 16,821
SSRAE participants | 762,319 | 1 | 0.1667 | 127,079 | 42,360
CSRAE participants | 48,326 | 1 | 0.1667 | 8,056 | 2,685
(3) Performance reporting data entry form: grantees
DSRAE grantees | 119 | 6 | 16 | 11,424 | 3,808
SSRAE grantees | 39 | 6 | 16 | 3,744 | 1,248
CSRAE grantees | 34 | 6 | 16 | 3,264 | 1,088
(4) Performance reporting data entry form: subrecipients
DSRAE subrecipients | 252 | 6 | 13 | 19,656 | 6,552
SSRAE subrecipients | 426 | 6 | 13 | 33,228 | 11,076
CSRAE subrecipients | 63 | 6 | 13 | 4,914 | 1,638

Estimated Total Annual Burden Hours: 149,113.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 1310.

Mary B. Jones,
ACF/OPRE Certifying Officer.

[FR Doc. 2022-14026 Filed 6-29-22; 8:45 am]

BILLING CODE 4184-83-P